DEPARTMENT OF COMMERCE

International Trade Administration

[C-570-041]

Truck and Bus Tires From the People's Republic of China: Postponement of Preliminary Determination in the Countervailing Duty Investigation

AGENCY: Enforcement and Compliance, International Trade Administration, Department of Commerce.

FOR FURTHER INFORMATION CONTACT: Jennifer Shore or Mark Kennedy, AD/CVD Operations, Office I, Enforcement and Compliance, International Trade Administration, U.S. Department of Commerce, 1401 Constitution Avenue NW., Washington, DC 20230; telephone: (202) 482-2778 or (202) 482-7883, respectively.

SUPPLEMENTARY INFORMATION:

Background

On February 18, 2016, the Department of Commerce (the Department) initiated a countervailing duty investigation on Truck and Bus Tires From the People's Republic of China (China).¹ Currently, the preliminary determination is due no later than April 25, 2016.²

¹ See Truck and Bus Tires From the People's Republic of China: Initiation of Countervailing Duty Investigation, 81 FR 9428 (February 25, 2016).

² The actual deadline is April 23, 2016, which is a Saturday. Department practice dictates that where a deadline falls on a weekend or federal holiday, the appropriate deadline is the next business day. See Notice of Clarification: Application of “Next Business Day” Rule for Administrative Determination Deadlines Pursuant to the Tariff Act of 1930, As Amended, 70 FR 24533 (May 10, 2005).

Postponement of the Preliminary Determination

Section 703(b)(1) of the Tariff Act of 1930, as amended (the Act), requires the Department to issue the preliminary determination in a countervailing duty investigation within 65 days after the date on which the Department initiated the investigation. However, in accordance with 19 CFR 351.205(e), if the petitioner makes a timely request for an extension, section 703(c)(1)(A) of the Act allows the Department to postpone the preliminary determination until no later than 130 days after the date on which the Department initiated the investigation. Under 19 CFR 351.205(e), a petitioner must submit a request for postponement 25 days or more before the scheduled date of the preliminary determination and must state the reason for the request. The Department will grant the request unless it finds compelling reasons to deny the request.³

³ See 19 CFR 351.205(e).

On March 14, 2016, the petitioner ⁴ in this investigation submitted a timely request pursuant to section 703(c)(1)(A) of the Act and 19 CFR 351.205(e) to postpone the preliminary determination due to the number and nature of subsidy programs under investigation.⁵

⁴ The United Steel, Paper and Forestry, Rubber, Manufacturing, Energy, Allied Industrial and Service Workers International Union, AFL-CIO-CLC (collectively, the petitioner).

⁵ See Letter from the petitioner, entitled “Truck and Bus Tires From People's Republic of China: Petitioner's Request To Extend the Deadline for the Preliminary Determination,” dated March 14, 2016.

The record does not present any compelling reasons to deny the petitioner's request. Therefore, in accordance with section 703(c)(1)(A) of the Act, we are fully postponing the due date for the preliminary determination to not later than 130 days after the day on which the investigation was initiated. As a result, the deadline for completion of the preliminary determination is now June 27, 2016. In accordance with section 705(a)(1) of the Act and 19 CFR 351.210(b)(1), the deadline for the final determinations of this investigation will continue to be 75 days after the date of the preliminary determination, unless postponed at a later date.

This notice is issued and published pursuant to section 703(c)(2) of the Act and 19 CFR 351.205(f)(1).

Dated: March 24, 2016.
Paul Piquado,
Assistant Secretary for Enforcement and Compliance.

[FR Doc. 2016-07314 Filed 3-30-16; 8:45 am]

BILLING CODE 3510-DS-P